INTERNATIONAL TRADE COMMISSION

[Investigation No. 337-TA-1121]

Certain Earpiece Devices and Components Thereof; Institution of Investigation

AGENCY: U.S. International Trade Commission.

ACTION: Notice.

SUMMARY: Notice is hereby given that a complaint was filed with the U.S. International Trade Commission on May 24, 2018, under section 337 of the Tariff Act of 1930, as amended, on behalf of Bose Corporation of Framingham, Massachusetts. A supplemental exhibit was filed on June 8, 2018. The complaint alleges violations of section 337 based upon the importation into the United States, the sale for importation, and the sale within the United States after importation of certain earpiece devices and components thereof by reason of infringement of U.S. Patent No. 9,036,852 (“the '852 patent”); U.S. Patent No. 9,036,853 (“the '853 patent”); U.S. Patent No. 9,042,590 (“the '590 patent”); U.S. Patent No. 8,311,253 (“the '253 patent”); U.S. Patent No. 8,249,287 (“the '287 patent”); and U.S. Patent No. 9,398,364 (“the '364 patent”). The complaint further alleges that an industry in the United States exists as required by the applicable Federal Statute.

The complainant requests that the Commission institute an investigation and, after the investigation, issue a general or limited exclusion order, or in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on June 22, 2018, Ordered That—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1, 5, 7, 9, and 14 of the '852 patent; claims 1-3, 6, 8, 10, and 11 of the '853 patent; claims 1, 3, 4, 6, 7, and 10 of the '590 patent; claims 1, 3, 4, and 6 of the '253 patent; claims 1 and 6-8 of the '287 patent; and claims 1, 2, 5, 8, 11, and 16 of the '364 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “in-ear headphones and accessories using a retaining structure to secure the device in a user's ear”;

(3) For the purpose of the investigation so instituted, the following are hereby named as parties upon which this notice of investigation shall be served:

(a) The complainant is: Bose Corporation, 100 Mountain Road, Framingham, MA 01701.

(b) The respondents are the following entities alleged to be in violation of section 337, and are the parties upon which the complaint is to be served:

1MORE USA, Inc., 10225 Barnes Canyon Road, Suite A202, San Diego, CA 92121

APSkins, 140 Lakeside Avenue, Suite A #334, Seattle, WA 98122

Beeebo Online Limited, 3837 Bay Lake Trail, Suite 115, North Las Vegas, NV 89030

iHip, 19 Progress Street, Edison, NJ 08820

LMZT LLC, 303 Louisiana Avenue, Brooklyn, NY 11207

Misodiko, NanShanQu XiLiJieDao PingShanCun, 192 Dong 509, ShenZhen GuangDong 518055 China

Phaiser LLC, 909 Silber Road, Houston, TX 77024

Phonete, A-201 No. 1 Qianwan Yilu, Qianhai Shenggang hezuoqu, Shenzhen, China

REVJAMS, 248 Lafayette Street, New York, NY 10012

SMARTOMI Products, Inc., 2760 E Philadelphia Street, Ontario, CA 91761

Spigen, Inc., 9975 Toledo Way, Suite 100, Irvine, CA 92618-1826

Sudio AB, Upplandsgatan 7, 111 23 Stockholm, Sweden

Sunvalley Tek International, Inc., 46724 Lakeview Boulevard, Fremont, CA 94538

TomRich, Room842, 3B, HuaNanXiYuan, PingHu Town, LongGang District, Shenzhen, 518100 China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 25, 2018.
Lisa Barton,
Secretary to the Commission.

[FR Doc. 2018-13962 Filed 6-28-18; 8:45 am]

BILLING CODE 7020-02-P